DEPARTMENT OF THE INTERIOR

National Park Service

National Register of Historic Places; Notification of Pending Nominations

Nominations for the following properties being considered for listing in the National Register were received by the National Park Service before August 17, 2002. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service, 1201 Eye St. NW., 8th Floor, Washington DC 20005; or by fax, 202-343-1836. Written or faxed comments should be submitted by September 26, 2002.

Carol D. Shull,
Keeper of the National Register of Historic Places.

IDAHO

Canyon County

Caldwell Residential Historic District, Roughly bounded by Cleveland Blvd., Everett St., S. Twelfth Ave., and S. Twentieth Ave., Caldwell, 02001055

NEW JERSEY

Warren County

Allamuchy Freight House, Rte 612, Allamuchy, 02001056

OHIO

Hamilton County

Union Baptist Cemetery, 4933 Cleves Warsaw Pike, Cincinnati, 02001057

Huron County

Miller-Bissell Farmstead, 581 OH 60, New London, 02001058

TEXAS

Bexar County

Friedrich Complex, 1617 E. Commerce St., San Antonio, 02001059

Merchants Ice and Cold Storage Company, 1305 E. Houston St., San Antonio, 02001060

Uhl, Gustav, House and Store, 721 Avenue E, San Antonio, 02001061

Crockett County

Carson, Ira and Wilma, House, 1103 Avenue C, Ozona, 02001062

Harris County

Benjamin Apartments, 1218 Webster St., Houston, 02001063

[FR Doc. 02-23014 Filed 9-10-02; 8:45 am]

BILLING CODE 4310-70-P